DEPARTMENT OF ENERGY

Federal Energy Regulatory Commission

[Docket No. RT02-2-000, Docket No. RT01-67-000, Docket No. RT01-74-000, Docket No. RT01-75-000, Docket No. RT01-77-000, Docket No. RT01-100-000, Docket No. RT01-1-000, and Docket No. RM98-1-002, (Not Consolidated)]

State-Federal Regional RTO Panels, GridFlorida LLC, et al., GridSouth Transco L.L.C. Entergy Services, Inc., et al., Southern Company Services, Inc., Regional Transmission Organizations RTO Informational Filings, et al., Regulations Governing Off-the-Record Communications; Notice of State-Federal Southeast Regional Panel Discussion

February 8, 2002.

Take notice that on February 15, 2002, a State-Federal Southeast Regional Panel discussion will be held, pursuant to the Commission's Order issued November 9, 2001, in Docket No. RT02-2-000, et al. A transcript of the panel discussion will be placed in the above listed dockets.

Magalie R. Salas,
Secretary.

[FR Doc. 02-3648 Filed 2-13-02; 8:45 am]

BILLING CODE 6717-01-P